DEPARTMENT OF ENERGY

Federal Energy Regulatory Commission

[Docket No. RP99-381-010]

Wyoming Interstate Company, Ltd.; Notice of Compliance Filing

June 26, 2003.

Take notice that on June 20, 2003, Wyoming Interstate Company, Ltd. (WIC) tendered for filing as part of its FERC Gas Tariff, Second Revised Volume No. 2, the following tariff sheets, to become effective July 21, 2003:

First Revised Sheet No. 4D

Second Revised Sheet No. 4E

Third Revised Sheet No. 57K

WIC states that these tariff sheets remove rates for parties contesting the rate case settlement that are no longer applicable.

Any person desiring to protest said filing should file a protest with the Federal Energy Regulatory Commission, 888 First Street, NE., Washington, DC 20426, in accordance with § 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document.

For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 2, 2003.

Magalie R. Salas,
Secretary.

[FR Doc. 03-16752 Filed 7-2-03; 8:45 am]

BILLING CODE 6717-01-P